FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number : 4217F

Name : Reliable Van & Storage Co., Inc.

Address : 550 Division Street, Elizabeth, NJ 07201

Date Revoked : January 15, 2003.

Reason : Failed to maintain a valid bond.

License Number : 17151F

Name : Ultra Air Cargo Inc.

Address : 555 S. Isis Avenue, Inglewood, CA 90301

Date Revoked : November 1, 2002.

Reason : Surrendered license voluntarily.

Sandra L. Kusumoto,
Director, Bureau of Consumer Complaints and Licensing.

[FR Doc. 03-4143 Filed 2-19-03; 8:45 am]

BILLING CODE 6730-01-P